DEPARTMENT OF HEALTH AND HUMAN SERVICES
Health Resources and Services Administration
Agency Information Collection Activities: Proposed Collection; Comment Request
In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.
Proposed Project: Section 510 Abstinence Education Grant Program—Guidance and Forms for the Title V Section 510 Abstinence Education Grant Program Application/Annual Report—NEW
The Application Guidance for Section 510 of Title V of the Social Security Act is used annually by all States and jurisdictions in applying for Abstinence Education Block Grants under Section 510 of Title V of the Social Security Act, and in preparing the required annual report. This guidance provides guidelines to the State Maternal and Child Health Agencies (MCH) agencies on how to apply for the appropriated Section 510 Abstinence Education funds.
The Section 510 Abstinence Education Grant program enables States to provide abstinence education, and at the option of States, where appropriate, mentoring, counseling, and adult supervision to promote abstinence from sexual activity, with a focus on those groups most likely to bear children out-of-wedlock. Projects must meet the legislative priorities as described in Section 510 of Title V of the Social Security Act. States agencies funded under the program are required to report annually on four national performance measures and a minimum of two State-developed performance measures.
The guidance used annually by the 47 States and 4 jurisdictions that have applied for and received Section 510 Abstinence Education Grant funding have an estimated average burden of 170 hours. The burden estimate for this activity is based upon information provided by the pilot States as well as previous experience by States in completing the application. The estimated response burden is as follows:

Application and Annual Report
Number of Respondents

Responses per Respondent
Burden Hours per Response
Total Burden Hours

States and Jurisdictions
51
1
170
8,670

Send comments to Susan G. Queen, Ph.D., HRSA Reports Clearance Officer, Room 14-45, Parklawn Building, 5600 Fishers Lane, Rockville, MD 20857. Written comments should be received within 60 days of notice.

Dated: January 23, 2004.
Tina M. Cheatham,
Acting Director, Division of Policy Review and Coordination.

[FR Doc. 04-1948 Filed 1-29-04; 8:45 am]
BILLING CODE 4165-15-P